DEPARTMENT OF THE INTERIOR

Bureau of Land Management

[UT-912-00-0777-XQ]

Utah Resource Advisory Council Meeting-Rescheduled.

AGENCY: Bureau of Land Management.

ACTION: Utah Resource Advisory Council Meeting—Rescheduled.

SUMMARY: The Bureau of Land Management's Utah Statewide Resource Advisory Council (RAC) meeting which was scheduled for February 15, 2000 will now be held on March 17, 2000, in Provo, Utah.

The purpose of this meeting is to begin developing guidelines for recreation management on BLM lands in Utah.

The meeting will be held at the Hampton Inn, (Sundance Room), 1511 South 40 East, Provo, Utah. It is scheduled to being at 8 a.m. and conclude at 4 p.m. A public comment period, where members of the public may address the Council, is scheduled from 8:30-8:30 a.m. on March 17. All meetings of the BLM's Resource Advisory Council are open to the public.

FOR FURTHER INFORMATION CONTACT: Sherry Foot, Special Programs Coordinator, Utah State Office, Bureau of Land Management, 324 South State Street, Salt Lake City, 84111; phone (801) 539-4195.

Dated: February 10, 2000.
Sally Wisely,
Utah BLM State Director.

[FR Doc. 00-3609 Filed 2-15-00; 8:45 am]

BILLING CODE 4310-DQ-M